ENVIRONMENTAL PROTECTION AGENCY

[EPA-R07-OAR-2013-0800; FRL-9907-52-Region-7]

Adequacy Determination for the St. Louis Area Ozone Early Progress State Implementation Plan Motor Vehicle Emissions Budgets for Transportation Conformity Purposes; State of Missouri

AGENCY: Environmental Protection Agency (EPA).

ACTION: Notice of adequacy determination.

SUMMARY: The Environmental Protection Agency (EPA) is notifying the public that we have found that the motor vehicle emissions budgets (MVEB) contained in the 8-hour Ozone Early Progress Plan submitted as a State Implementation Plan (SIP) revision on August 16, 2013, by the Missouri Department of Natural Resources (MDNR), are adequate for transportation conformity purposes. Emissions estimates for 2015 were included in the 8-hour Ozone Early Progress plan based on projected emission inventories for that year which established the MVEBs. This notice formalizes the 2015 mobile emissions estimates as adequate MVEBs for future conformity determinations related to the ozone NAAQS.

DATES: This notice is effective on March 19, 2014.

FOR FURTHER INFORMATION CONTACT: Steven Brown at (913) 551-7718, by email at brown.steven@epa.gov, or by mail at US Environmental Protection Agency, Air Planning and Development Branch, 11201 Renner Boulevard, Lenexa, Kansas 66219.

SUPPLEMENTARY INFORMATION: Throughout this document “we,” “us,” or “our” refer to EPA. The word “budget(s)” refers to the motor vehicle emission budgets for volatile organic compounds (VOCs) and nitrogen oxides (NOX). The word “SIP” in this document refers to the Early Progress Plan for the St. Louis 8-Hour Ozone Nonattainment Area submitted by MDNR to EPA as a SIP revision on August 16, 2013.

Today's notice is simply an announcement of a finding that EPA has already made. EPA Region 7 sent a letter to MDNR on October 28, 2013, stating that the MVEBs contained in the Early Progress Plan were adequate for transportation conformity purposes. As a result of EPA's finding, the State of Missouri must use the MVEBs from the August 16, 2013, 8-hour Ozone Early Progress Plan for future transportation conformity determinations for the St. Louis area for the ozone NAAQS. The finding is available at EPA's conformity Web site: http://www.epa.gov/otaq/stateresources/transconf/adequacy.htm.

Transportation conformity is required by section 176(c) of the Clean Air Act, as amended in 1990. EPA's conformity rule requires that transportation plans, programs and projects conform to state air quality implementation plans and establishes the criteria and procedure for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it should not be used to prejudge EPA's ultimate approval of the SIP. EPA plans to take action on the SIP at a later date. We have described our process for determining the adequacy of submitted SIP budgets in 40 CFR 93.118(f), and have followed this rule in making our adequacy determination.

Authority: 42 U.S.C. 7401-7671q.

Dated: February 25, 2014.
Karl Brooks,
Regional Administrator, Region 7.

[FR Doc. 2014-04888 Filed 3-4-14; 8:45 am]

BILLING CODE 6560-50-P